NUCLEAR REGULATORY COMMISSION

[Docket No. 50-285; NRC-2013-0111]

Omaha Public Power District; Fort Calhoun Station, Unit 1

AGENCY: Nuclear Regulatory Commission.

ACTION: Director's decision under 10 CFR 2.206; issuance.

SUMMARY: The U.S. Nuclear Regulatory Commission (NRC) has issued a director's decision with regard to the petition dated June 21, 2012, filed by Mr. Wallace Taylor on behalf of the Iowa Chapter of the Sierra Club (the petitioner), requesting that the NRC take action with regard to Fort Calhoun Station (FCS), Unit 1. The petitioner's request and the director's decision are included in the SUPPLEMENTARY INFORMATION section of this document.

DATES: June 10, 2015.

ADDRESSES: Please refer to Docket ID NRC-2013-0111 when contacting the NRC about the availability of information regarding this document. You may obtain publicly-available information related to this document using any of the following methods:

• Federal Rulemaking Web site: Go to http://www.regulations.gov and search for Docket ID NRC-2013-0111. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Fred Lyon, Office of Nuclear Reactor Regulation, U.S. Nuclear Regulatory Commission, Washington DC 20555-0001; telephone: 301-415-2296, email: Fred.Lyon@nrc.gov.

SUPPLEMENTARY INFORMATION:

Notice is hereby given that the Director, Office of Nuclear Reactor Regulation, has issued a director's decision (ADAMS Accession No. ML15128A349) on the petition filed by the petitioner on June 21, 2012 (ADAMS Accession No. ML12180A124).

The petitioner requested that the NRC revoke the license of Omaha Public Power District (OPPD, the licensee) to operate FCS. As the basis of the request, the petitioner raised the following issues: (1) Licensee event report submitted September 10, 2012, showed a support beam was not within allowable limits for stress and loading (ADAMS Accession No. ML12255A038); (2) flood protection measures at FCS are inadequate and create an ongoing, high risk danger to public safety; (3) the flood risks of the six dams upstream of FCS are either unevaluated or unresolved, and (4) the 614 primary reactor containment electrical penetration seals containing Teflon identified at FCS, a material that could degrade during design-basis accident conditions.

On August 29, 2011, the petitioner participated in a teleconference with the NRC's Petition Review Board. The meeting provided the petitioner an opportunity to provide additional information and to clarify issues cited in the petition. The transcript for that meeting is available in ADAMS under Accession No. ML11256A036. The petitioner provided supplemental material in support of the petition on August 22 and 27, November 19, and December 16, 17, and 20, 2012 (ADAMS Accession Nos. ML12240A099, ML12240A162, ML12250A714, ML12352A279, ML12352A221, and ML13109A240, respectively).

The NRC sent a copy of the proposed director's decision to the petitioner and the licensee for comment on April 15, 2015 (ADAMS Accession Nos. ML15063A047 and ML15063A050, respectively). The petitioner and the licensee were asked to provide comments within 14 days on any part of the proposed director's decision that was considered to be erroneous or any issues in the petition that were not addressed. The staff did not receive any comments on the proposed director's decision.

The Director of the Office of Nuclear Reactor Regulation has determined that the request, to revoke the operating license for FCS, be denied. The reasons for this decision are explained in the director's decision DD-15-04 pursuant to 10 CFR 2.206 of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 3rd day of June, 2015.
For the Nuclear Regulatory Commission.
Michele G. Evans,
Acting Director, Office of Nuclear Reactor Regulation.

[FR Doc. 2015-14207 Filed 6-9-15; 8:45 am]

BILLING CODE 7590-01-P